DEPARTMENT OF TRANSPORTATION

Coast Guard

33 CFR Part 165

[COTP San Juan 00-013]

RIN 2115-AA97

Safety Zone Regulations; San Juan Harbor, San Juan, Puerto Rico

AGENCY: Coast Guard, DOT.

ACTION: Temporary final rule; correction.

SUMMARY: The Coast Guard published a temporary rule on March 20, 2000, creating a safety zone around the grounded cement carrier M/V SERGO ZAKARIADZE. The section number in that rule was incorrect. This document changes the section number from 165.T07-013 to 165.T07-037.

DATES: This section was effective at 7 a.m. on March 1, 2000 and terminated at 7 a.m. on March 22, 2000.

FOR FURTHER INFORMATION CONTACT: Lieutenant Commander Lefevers at Coast Guard Marine Safety Office San Juan, Puerto Rico, tel: (787) 706-2444.

SUPPLEMENTARY INFORMATION:

Background and Purpose

The Coast Guard published a temporary safety zone in the Federal Register on March 20, 2000, (65 FR 14864), adding temporary section 165.T07-013.

Need for Correction

As published, that section number was incorrect. That section number is assigned to a current CFR section. This document corrects the section number.

Correction of Publication

In rule FR Doc. 00-6684 published on March 20, 2000 (65 FR 14864) make the following correction. On page 14865, in the first column, on lines 6 and 8, change the section number of the temporary safety zone to read § 165.T07-037.

J. Servidio,
Commander, U.S. Coast Guard, Captain of the Port, San Juan, Puerto Rico.

[FR Doc. 00-10498 Filed 4-27-00; 8:45 am]

BILLING CODE 4910-15-M